DEPARTMENT OF JUSTICE

Notice of Filing of Settlement Agreement Pursuant to Comprehensive Environmental Response, Compensation, and Liability Act (“CERCLA”)

Notice is hereby given that on August 24, 2010, a proposed Settlement Agreement in In re Asarco, LLC, No. 05-21207 (Bankr. S.D. Tex.) was filed with the United States Bankruptcy Court for the Southern District of Texas. The Settlement Agreement resolves the Late Supplemental Proof of Claim by the United States on behalf of the United States Department of Agriculture, Forest Service, in the Asarco bankruptcy. The Late Supplemental Proof of Claim relates to Asarco's liability under CERCLA at the Kelly Camp Mine Site located within the Colville National Forest in Ferry County, Washington. The Settlement Agreement requires Reorganized Asarco to pay $100,000 to settle this matter.

The Department of Justice will receive for a period of thirty (30) days from the date of this publication comments relating to the Settlement Agreement. Comments should be addressed to the Assistant Attorney General, Environment and Natural Resources Division, and either e-mailed to pubcomment-ees.enrd@usdoj.gov or mailed to P.O. Box 7611, U.S. Department of Justice, Washington, DC 20044-7611, and should refer to In re Asarco, LLC, No. 05-21207 (Bankr. S.D. Tex.), Department of Justice Case Number 90-11-3-08633.

During the public comment period, the Settlement Agreement may be examined at the Office of the United States Attorney, Southern District of Texas, 800 North Shoreline Blvd., #500, Corpus Christi, TX 78476-2001. The Settlement Agreement may also be examined on the following Department of Justice Web site, http://www.usdoj.gov/enrd/Consent_Decrees.html . A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury.

Maureen Katz,
Assistant Section Chief.

[FR Doc. 2010-22604 Filed 9-9-10; 8:45 am]

BILLING CODE 4410-15-P